DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists the updated quantity trigger levels for products, which may be subject to additional import duties under the safeguard provisions of the WTO Agreement on Agriculture. Beginning this year, the method of determining these triggers has been modified to exclude trade from countries that are not subject to WTO safeguards. This notice also includes the relevant period applicable for the trigger levels on each of the listed products.

EFFECTIVE DATE: August 14, 2005.

FOR FURTHER INFORMATION CONTACT: Charles R. Bertsch, Multilateral Trade Negotiations Division, Foreign Agricultural Service, room 5524—South Building, U.S. Department of Agriculture, Washington, DC 20250-1022, telephone at (202) 720-6278, or e-mail charles.bertsch@usda.gov.

SUPPLEMENTARY INFORMATION: Article 5 of the WTO Agreement on Agriculture provides that additional import duties may be imposed on imports of products subject to tarriffication as a result of the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, Quantity Based Safeguard Trigger dated December 23, 1994. The Secretary of Agriculture further delegated the duty to the Administrator of the Foreign Agricultural Service (7 CFR 2.43(a)(2)). The Annex to this notice contains the updated quantity trigger levels.

Beginning this year a change has been made in the method for calculating these trigger levels. In previous years imports from all sources were included in the three year average used as the basis of the safeguard triggers. After consulting with the U.S. Trade Representative's Office, it was determined that it is more appropriate to exclude from these calculations imports from countries that are not subject to the WTO safeguard duties. The following countries are not subject to those duties as a result of Free Trade Agreements: Canada, Mexico, Jordan, Singapore, Chile and Australia.

Additional information on the products subject to safeguards and the additional duties which may apply can be found in subchapter IV of Chapter 99 of the Harmonized Tariff Schedule of the United States and in the Secretary of Agriculture's Notice of Safeguard Action, published in the Federal Register at 60 FR 427, January 4, 1995.

Notice: As provided in section 405 of the Uruguay Round Agreements Act, consistent with Article 5 of the Agreement on Agriculture, the safeguard quantity trigger levels previously notified are superceded by the levels indicated in the Annex to this notice.

Dated: Issued at Washington, DC this 28 day of June, 2005.
A. Ellen Terpstra,
Administrator, Foreign Agricultural Service, Annex.

The definitions of these products were provided in the Notice of Safeguard Action published in the Federal Register, at 60 FR 427, January 4, 1995.

Annex—Quantity-Based Safeguard Trigger
Product | Trigger level | Period
Beef | 358,015 mt | January 1, 2005 to December 31, 2005.
Mutton | 2,105 mt | January 1, 2005 to December 31, 2005.
Cream | 5,074,624 liters | January 1, 2005 to December 31, 2005.
Evaporated or Condensed Milk | 5,956,000 kilograms | January 1, 2005 to December 31, 2005.
Nonfat Dry Milk | 2,060,875 kilograms | January 1, 2005 to December 31, 2005.
Dried Whole Milk | 4,186,708 kilograms | January 1, 2005 to December 31, 2005.
Dried Cream | 28,042 kilograms | January 1, 2005 to December 31, 2005.
Dried Whey/Buttermilk | 185,042 kilograms | January 1, 2005 to December 31, 2005.
Butter | 12,278,292 kilograms | January 1, 2005 to December 31, 2005.
Butter Oil and Butter Substitutes | 7,294,708 kilograms | January 1, 2005 to December 31, 2005.
Dairy Mixtures | 31,026,208 kilograms | January 1, 2005 to December 31, 2005.
Blue Cheese | 4,685,625 kilograms | January 1, 2005 to December 31, 2005.
Cheddar Cheese | 12,127,708 kilograms | January 1, 2005 to December 31, 2005.
American-Type Cheese | 23,336,917 kilograms | January 1, 2005 to December 31, 2005.
Edam/Gouda Cheese | 6,660,467 kilograms | January 1, 2005 to December 31, 2005.
Italian-Type Cheese | 22,661,375 kilograms | January 1, 2005 to December 31, 2005.
Swiss Cheese with Eye Formation | 35,579,750 kilograms | January 1, 2005 to December 31, 2005.
Gruyere Process Cheese | 8,484,500 kilograms | January 1, 2005 to December 31, 2005.
Lowfat Cheese | 4,227,750 kilograms | January 1, 2005 to December 31, 2005.
NSPF Cheese | 54,338,417 kilograms | January 1, 2005 to December 31, 2005.
Peanuts | 56,596 mt | April 1, 2005 to March 31, 2006.
Peanut Butter Paste | 2,841 mt | January 1, 2005 to December 31, 2005.
Raw Cane Sugar | 1,297,851 mt 1,096,324 | October 1, 2004 to September 30, 2005. October 1, 2005 to September 30, 2006.
Refined Sugar and Syrups | 95,785 mt 36,661 mt | Ocober 1, 2004 to September 30, 2005. October 1,2005 to September 30, 2006.
Blended Syrups | 8 mt 59 mt | October 1, 2004 to September 30, 2005. October 1, 2005 to September 30, 2006.
Articles Over 65% Sugar | 23 mt 170 mt | October 1, 2004 to September 30, 2005. October 1, 2005 to September 30, 2006.
Articles Over 10% Sugar | 80,886 mt 12,067 mt | October 1, 2004 to September 30, 2005. October 1, 2005 to September 30, 2006.
Sweetened Cocoa Powder | 531 mt 660 mt | October 1, 2004 to September 30, 2005. October 1, 2005 to September 30, 2006.
Chocolate Crumb | 9,239,208 kilograms | January 1, 2005 to December 31, 2005.
Lowfat Chocolate Crumb | 127,708 kilograms | January 1, 2005 to December 31, 2005.
Infant Formula Containing Oligosaccharides | 22,708 kilograms | January 1, 2005 to December 31, 2005.
Mixes and Doughs | 6,757 mt 78 mt | October 1, 2004 to September 30, 2005. October 1, 2005 to September 30, 2006.
Mixed Condiments and Seasonings | 402 mt 98 mt | October 1, 2004 to September 30, 2005. October 1, 2005 to September 30, 2006.
Ice Cream | 795,143 liters | January 1, 2005 to December 31, 2005.
Animal Feed Containing Milk | 254,958 kilograms | January 1, 2005 to December 31, 2005.
Short Staple Cotton | 94,717 kilograms 20,042 kilograms | September 20, 2004 to September 19, 2005. September 20, 2005 to September 19, 2006.
Harsh or Rough Cotton | 0 mt 0 mt | August 1, 2004 to July 31, 2005. August 1, 2005 to July 31, 2006.
Medium Staple Cotton | 485,971 kilograms 1,571,375 kilograms | August 1, 2004 to July 31, 2005. August 1, 2005 to July 31, 2006.
Extra Long Staple Cotton | 8,982,620 kilograms 9,736,417 kilograms | August 1, 2004 to July 31, 2005. August 1, 2005 to July 31, 2006.
Cotton Waste | 0 kilograms 5,125 kilograms | September 20, 2004 to September 19, 2005. September 20, 2005 to September 19, 2006.
Cotton, Processed Not Spun | 5,343 kilograms 80,208 kilograms | September 11, 2004 to September 10, 2005. September 11, 2005 to September 10, 2006.

[FR Doc. 05-13828 Filed 7-13-05; 8:45 am]

BILLING CODE 3410-10-M